ENVIRONMENTAL PROTECTION AGENCY

[FRL-7855-7]

EPA National Advisory Council for Environmental Policy and Technology; Notification of Public Advisory Committee Teleconference Meeting

AGENCY: Environmental Protection Agency (EPA) .

ACTION: Notification of Public Advisory Committee Teleconference Meeting.

SUMMARY: Pursuant to the Federal Advisory Committee Act, Public Law 92-463, notice is hereby given that the National Advisory Council for Environmental Policy and Technology (NACEPT) will meet in a public teleconference on January 13, 2005, from 3:00 p.m. to 4:30 Eastern Time. The meeting will be hosted out of the main conference room, U.S. EPA, 655 15th Street, NW., Suite 800, Washington, DC 20005. The meeting is open to the public, however, due to limited space, seating will be on a registration-only basis. For further information regarding the teleconference meeting, please contact the individual listed below.

Background: NACEPT is a federal advisory committee under the Federal Advisory Committee Act, PL 92463. NACEPT provides advice and recommendations to the Administrator and other EPA officials on a broad range of domestic and international environmental policy issues. NACEPT consists of a representative cross-section of EPA's partners and principle constituents who provide advice and recommendations on policy issues and serves as a sounding board for new strategies that the Agency is developing.

Purpose of Meeting: A workgroup under the auspices of NACEPT has prepared a draft advice letter on the environmental indicators database. The purpose of this teleconference is for the NACEPT Council to review, discuss, and decide whether to approve the letter.

Availability of Review Materials: If you wish to receive a copy of the draft advice letter developed by the NACEPT workgroup, please contact Ms. Altieri.

SUPPLEMENTARY INFORMATION: Members of the public wishing to gain access to the conference room on the day of the meeting must contact Ms. Sonia Altieri, Designated Federal Officer for NACEPT, U.S. Environmental Protection Agency (1601E), Office of Cooperative Environmental Management, 655 15th Street, NW., Suite 800, Washington, DC 20005; telephone/voice mail at (202) 233-0061 or via e-mail at altieri.sonia@epa.gov. The agenda will be available to the public upon request. If you wish to make oral comments or to submit written comments to the Council, please contact Ms. Altieri by January 7, 2005.

General Information: Additional information concerning the National Advisory Council for Environmental Policy and Technology (NACEPT) can be found on our Web site (http://www.epa.gov/ocem).

Meeting Access: Individuals requiring special accommodation at this meeting, including wheelchair access to the conference room, should contact Ms. Altieri at least five business days prior to the meeting so that appropriate arrangements can be made.

Dated: December 16, 2004.
Sonia Altieri,
Designated Federal Officer.

[FR Doc. 04-28361 Filed 12-27-04; 8:45 am]

BILLING CODE 6560-50-P